DEPARTMENT OF TRANSPORTATION

Federal Aviation Administration

14 CFR Part 89

[Docket No. FAA-2022-0859]

Accepted Means of Compliance; Remote Identification of Unmanned Aircraft; Correction

AGENCY: Federal Aviation Administration, DOT

ACTION: Acceptable means of compliance; notice of availability; correction.

SUMMARY: The FAA is correcting a notice of availability (NOA) published on August 11, 2022 (87 FR 49520). In that NOA, the FAA provided an acceptable means of compliance (MOC) in accordance with a rule issued by the FAA on January 21, 2021, that went into effect on April 21, 2021. In that NOA, the FAA accepted ASTM International (ASTM) F3586-22, with additions identified, as an acceptable means, but not the only means of demonstrating compliance with the requirements for producing standard remote identification unmanned aircraft and remote identification broadcast modules. The FAA is correcting the means of compliance of ASTM F3586-22 by correcting a typographical reference error in Table 3 and clarifying a testing requirement by revising a heading and adding clarifying language, as noted in the “Means of Compliance Accepted In This Policy” section of this document. This document includes acceptance of previously accepted MOCs with the corrections described.

DATES: This corrective action is effective November 14, 2023.

FOR FURTHER INFORMATION CONTACT:

FAA Contact: Avi Acharya, Avionics Communications & Surveillance Unit, AIR-626C, Technical Policy Branch, Policy & Standards Division, Aircraft Certification Service, Federal Aviation Administration, AIR-600: 800 Independence Ave. SW, Washington, DC 20591; telephone 1-844-FLY-MY-UA; email: UASHelp@faa.gov.

ASTM Contact: Gabriel Cox, Chair, ASTM Remote ID Workgroup, 7325 NE Imbrie Drive #231, Hillsboro, OR 97124; Telephone 1-503-941-0099; email: gcox@coxdata.com.

SUPPLEMENTARY INFORMATION:

Background

Title 14 Code of Federal Regulations, part 89 establishes remote identification requirements for unmanned aircraft operated in the airspace of the United States. With a few exceptions, unmanned aircraft produced for operation in the airspace of the United States are subject to the production requirements of part 89. A person producing a standard remote identification unmanned aircraft or remote identification broadcast module for operation in the United States must show that the unmanned aircraft or broadcast module meets the requirements of subpart D of part 89 by following an FAA-accepted means of compliance (MOC).

An FAA-accepted MOC describes one means by which a person may comply with the minimum performance requirements for remote identification in subpart D of part 89. To be accepted by the FAA, an MOC must meet the requirements of both subparts D and E of part 89. The MOC must address the minimum performance requirements, as well as the testing and validation necessary to demonstrate compliance with the part 89 subpart D requirements. The FAA indicates its acceptance of an MOC by publishing a Notice of Availability in the Federal Register identifying the MOC as accepted and informing the applicant of its acceptance.¹

¹ 14 CFR part 89, subpart D.

A holder of an FAA-accepted MOC notified the FAA of a typographical error in a table and a deficient testing requirement in its FAA-accepted MOC, as discussed in the “Means of Compliance Accepted In This Policy” section of this document. This document includes acceptance of the previously accepted MOC with the requested corrections and describes the effect on existing Declaration of Compliance (DOC) holders based on the previously accepted MOC and on new and revised DOC submittals.

Means of Compliance Accepted in This Policy

On August 10, 2022, the FAA accepted ASTM “Standard Practice for Remote ID Means of Compliance to Federal Aviation Administration Regulation 14 CFR part 89”, ASTM F3586-22, with certain additions, as an MOC to the requirements of part 89 Subpart D in NOA Docket No. FAA-2022-0859.

The FAA has determined that a correction to the typographical error in table 3 of the FAA-accepted ASTM F3586-22 MOC standard, and a clarification to a deficient testing requirement in section 8.6 of the ASTM standard are necessary.

The FAA-accepted MOC update provided in this NOA is comprised of the MOC in Docket No.FAA-2022-0859 (i.e., ASTM F3586-22, with the FAA-specified additions) with the following corrections:

1. F3586-22 Table 3, 89.320(h)(5), page 11, line 5: The test method must be MOC section 8.6, not section 8.9.3.

2. F3586-22 Section 8.6: revise heading to—Broadcast Protocol, Message Elements, Periodicity and Latency Testing:

3. F3586-22 Section 8.6: Add the following—In addition to the passing criteria, using a time-accurate test setup, the difference in time between the broadcasted timestamp and received packet time must be measured to be less than or equal to 1 second.

Effect of This Notice on Current FAA-Accepted Declarations of Compliance

Current valid FAA-accepted DOC for a standard remote identification unmanned aircraft or remote identification broadcast module that used the original FAA-accepted MOC (including all provisions of ASTM F3586-22 and the additions identified in NOA Docket No.FAA-2022-0859) with tracking number RID-ASTM-F3586-22-NOA-22-01 remain FAA-accepted, and holders of those DOC do not need to resubmit a DOC for the MOC in this document.

Effect of This Action on New and Revised Declaration of Compliance Submittals

Effective upon issuance of this NOA, the FAA will no longer accept new or revised DOC submissions using the original MOC identified in NOA Docket No. FAA-2022-0859. Applicants must submit new and revised DOC submittals using the MOC in this document and must use the tracking number identified in “Tracking Number” below.

Tracking Number

Producers submitting a new or revised DOC to the FAA declaring the standard remote identification unmanned aircraft or remote identification broadcast module meets the requirements of this FAA-accepted MOC (including all provisions of ASTM F3586-22, the additions identified in NOA Docket No.FAA-2022-0859, and the corrections to ASTM F3586-22 identified in this document) must include the following tracking number: RID-ASTM-F3586-22-NOA-23-01.

Availability

ASTM F3586-22, “Standard Practice for Remote ID Means of Compliance to Federal Aviation Administration Regulation 14 CFR part 89,” is available online at https://www.astm.org/f3586-22.html. ASTM International copyrights these consensus standards and charges the public a fee for service. Individual downloads or reprints of a standard (single or multiple copies, or special compilations and other related technical information) may be obtained through www.astm.org. The FAA maintains a list of accepted means of compliance on the FAA website at www.https://uasdoc.faa.gov/listMOC.

This NOA serves as acceptance by the Federal Aviation Administration of the ASTM Remote Identification Standard F3586-22, with additions specified in NOA Docket No.FAA-2022-0859 and corrections to ASTM F3586-22 specified in this NOA, as a means of compliance for meeting the requirements of part 89, subpart D.

Issued in Kansas City, Missouri, on October 13, 2023.
Patrick R. Mullen,
Manager, Technical Policy Branch, Policy and Standards Division, Aircraft Certification Service.

[FR Doc. 2023-23058 Filed 11-13-23; 8:45 am]

BILLING CODE 4910-13-P